DEPARTMENT OF COMMERCE

National Oceanic and Atmospheric Administration

RIN 0648-XG95

Magnuson-Stevens Act Provisions; General Provisions for Domestic Fisheries; Application for Exempted Fishing Permits

AGENCY: National Marine Fisheries Service (NMFS), National Oceanic and Atmospheric Administration (NOAA), Commerce.

ACTION: Notification and clarification of a proposal to conduct exempted fishing; request for comments.

SUMMARY: The Assistant Regional Administrator for Sustainable Fisheries, Northeast Region, NMFS (Assistant Regional Administrator) has made a preliminary determination that the subject exempted fishing permit (EFP) application that would authorize the harvest of set-aside herring awarded to Gulf of Maine Research Institute (GMRI) through the 2008/2009 Atlantic Herring (herring) Research Set-Aside (RSA) Program should be issued for public comment. The Assistant Regional Administrator has also made a preliminary determination that the activities authorized under the EFP would be consistent with the goals and objectives of the Atlantic Herring Fishery Management Plan (FMP). However, further review and consultation may be necessary before a final determination is made.

DATES: Comments on this document must be received on or before May 23, 2008.

ADDRESSES: Comments may be submitted by e-mail to: herring.efp@noaa.gov. Include in the subject line of the e-mail comment the following document identifier: “Comments on GMRI herring EFP.” Written comments should be sent to Patricia A. Kurkul, Regional Administrator, NMFS, Northeast Regional Office, 1 Blackburn Drive, Gloucester, MA 01930. Mark the outside of the envelope, “Comments on GMRI herring EFP.” Comments may also be sent via facsimile (fax) to (978) 281-9135.

FOR FURTHER INFORMATION CONTACT: Ryan Silva, Cooperative Research Program Specialist, phone: 978-281-9326, fax: 978-281-9135.

SUPPLEMENTARY INFORMATION: Pending final approval by NOAA's Grants Management Division, the Science and Research Director for NMFS's Northeast Fisheries Science Center has preliminarily selected an Atlantic Herring RSA proposal submitted by GMRI to conduct a study entitled “Effects of Fishing on Herring Aggregations,” which would assess the effects of midwater trawling on herring aggregations. GMRI submitted a separate EFP request for research activities, which published in the Federal Register for public comment on March 10, 2008 (73 FR 12707). A final determination on the research EFP is pending.

GMRI was awarded the following total allowable catch (TAC) set-asides for both 2008 and 2009 to fund the proposed research and to compensate compensation fishing vessels: Management Area 1A/2,976,240 lb (1,350 mt); and Management Area 1B/661,380 lb (300 mt). The subject EFP would exempt vessels conducting compensation fishing from herring Management Area 1A, 1B, 2, and 3 quota closures, and herring trip possession limits, as specified at 50 CFR 648.201 and 648.204, respectively. All compensation trips would be completed prior to the end of the fishing year from which the compensation was awarded. GMRI proposes to combine some research and compensation fishing trips, although compensation trips would also occur separately from research activities. If a TAC set aside allocation limit is caught while on a compensation/research trip, research activities would be required to cease in order to prevent the project from exceeding a set-aside allocation. If the research project is terminated for any reason prior to completion, any unused funds collected from catch sold to pay for research expenses may be required to be refunded to NOAA.

The quota closure and possession limit exemptions would apply only to the 2008 fishing year. A subsequent EFP application would need to be approved prior to any 2009 compensation fishing.

Regulations under the Magnuson-Stevens Fishery Conservation and Management Act require publication of this notification to provide interested parties the opportunity to comment on applications for proposed EFPs. The applicant may place requests for minor modifications and extensions to the EFP throughout the year. EFP modifications and extensions may be granted without further notice if they are deemed essential to facilitate completion of the proposed research and minimal so as not to change the scope or impact of the initially approved EFP request.

Authority: 16 U.S.C. 1801 et seq.

Dated: May 2, 2008.
Emily H. Menashes
Acting Director, Office of Sustainable Fisheries, National Marine Fisheries Service.

[FR Doc. E8-10176 Filed 5-7-08; 8:45 am]

BILLING CODE 3510-22-S